NUCLEAR REGULATORY COMMISSION

[Docket Nos. 50-361 and 50-362]

Southern California Edison Company, San Onofre Nuclear Generating Station, Units 2 and 3; Notice of Consideration of Issuance of Amendments to Facility Operating Licenses, Proposed No Significant Hazards Consideration Determination, and Opportunity for a Hearing; Correction

AGENCY: Nuclear Regulatory Commission.

ACTION: Correction.

SUMMARY: This document corrects a notice appearing in the Federal Register on January 19, 2000 (64 FR 2993). This action is necessary to correct the comment period expiration date.

FOR FURTHER INFORMATION CONTACT: David L. Meyer, Chief, Rules and Directives Branch, Division of Administrative Services, Office of Administration, Washington, DC 20555-0001, telephone 301-415-7162, e-mail dlm1@nrc.gov.

SUPPLEMENTARY INFORMATION: On page 2994, in the second column, the fifth complete paragraph, in the first line, February 17, 2000, is corrected to read February 18, 2000.

Dated at Rockville, Maryland, this 20th day of January 2000.
For the Nuclear Regulatory Commission.
David L. Meyer,
Chief, Rules and Directives Branch, Division of Administrative Services, Office of Administration.

[FR Doc. 00-1810 Filed 1-25-00; 8:45 am]

BILLING CODE 7590-01-P